DEPARTMENT OF LABOR

Employment and Training Administration

[TA-W-57,018]

Cedar Creek Corporation; High Point, NC; Notice of Termination of Investigation

Pursuant to Section 221 of the Trade Act of 1974, an investigation was initiated on April 20, 2005 in response to a petition filed by a company official on behalf of workers at Cedar Creek Corporation, High Point, North Carolina (TA-W-57,018).

The petitioner has requested that the petition be withdrawn. Consequently, further investigation in this case would serve no purpose, and the investigation has been terminated.

Signed in Washington, DC, this 6th day of May, 2005.
Linda G. Poole,
Certifying Officer, Division of Trade Adjustment Assistance.

[FR Doc. E5-2518 Filed 5-18-05; 8:45 am]

BILLING CODE 4510-30-P